DEPARTMENT OF VETERANS AFFAIRS

[OMB Control No. 2900-0605]

Proposed Information Collection (Application for Accreditation as a Claims Agent or Attorney) Activity: Comment Request

AGENCY: Office of General Counsel, Department of Veterans Affairs.

ACTION: Notice.

SUMMARY: The Office of General Counsel (OGC), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to determine applicants' eligibility for accreditation as claims agents and attorneys with VA.

DATES: Written comments and recommendations on the proposed collection of information should be received on or before April 11, 2011.

ADDRESSES: Submit written comments on the collection of information to David McLenachen (022D), Department of Veterans Affairs, 810 Vermont Avenue, NW., Washington, DC 20420 or e-mail: david.McLenachen@va.gov. Please refer to “OMB Control No. 2900-0605” in any correspondence.

FOR FURTHER INFORMATION CONTACT: David McLenachen at (202) 461-7699 or FAX (202) 273-6404.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OGC invites comments on: (1) Whether the proposed collection of information is necessary for the proper performance of OGC's functions, including whether the information will have practical utility; (2) the accuracy of OGC's estimate of the burden of the proposed collection of information; (3) ways to enhance the quality, utility, and clarity of the information to be collected; and (4) ways to minimize the burden of the collection of information on respondents, including through the use of automated collection techniques or the use of other forms of information technology.

Titles:

a. Application for Accreditation as a Claims Agent or Attorney, VA Form 21a.

b. Filing of Representatives' Fee Agreements and Motions for Review of Such Fee Agreements.

OMB Control Number: 2900-0605.

Type of Review: Extension of a currently approved collection.

Abstract: Applicants seeking accreditation as claims agents or attorneys to represent benefits claimants before VA must complete VA Form 21a. The applicant is required to file the application with VA General Counsel to establish initial eligibility for accreditation. The information requested is necessary to establish the statutory and regulatory eligibility requirements, e.g., good character and reputation which includes basic identifying information, information concerning past representation, military service, employment, criminal activity and mental health of the applicant. The data is used to determine the applicant's eligibility for accreditation as a claims agent. The data collected under Filing of Representatives' Fee Agreements and Motions for Review of Such Fee Agreements is used to determine whether a fee agreement between claimants and their representative is in compliance with the law governing representation.

Affected Public: Individuals and households.

Estimated Annual Burden:

a. Application for Accreditation as a Claims Agent, VA Form 21a—1,967 hours.

b. Filing of Representatives' Fee Agreements—1,222 hours

c. Motions for Review of Such Fee Agreements—78 hours.

Estimated Average Burden per Respondent:

a. Application for Accreditation as a Claims Agent or Attorney, VA Form 21a—45 minutes.

b. Filing of Representatives' Fee Agreements—12 minutes.

c. Motions for Review of Such Fee Agreements—2 hours.

Frequency of Response: On occasion.

Estimated Number of Respondents:

a. Application for Accreditation as a Claims Agent, VA Form 21a—2,623.

b. Filing of Representatives' Fee Agreements—5,869.

c. Motions for Review of Such Fee Agreements—39.

Dated: February 3, 2011.
By direction of the Secretary.
Denise McLamb,
Program Analyst, Enterprise Records Service.

[FR Doc. 2011-2716 Filed 2-7-11; 8:45 am]

BILLING CODE P